DEPARTMENT OF TRANSPORTATION

Federal Aviation Administration

14 CFR Part 95

[Docket No. 31336; Amdt. No. 555]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, November 5, 2020.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on October 26, 2020.
Wade Terrell,
Aviation Safety, Manager, Flight Procedures & Airspace Group, Flight Technologies and Procedures Division.

Adoption of the Amendment

Accordingly, pursuant to the authority delegated to me by the Administrator, part 95 of the Federal Aviation Regulations (14 CFR part 95) is amended as follows effective at 0901 UTC, November 5,2020.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 555 effective date November 5, 2020]
FROM | TO | MEA | MAA
§ 95.3000 Low Altitude RNAV Routes
§ 95.3217 RNAV Route T217 Is Amended by Adding
BONEE, OH FIX | SJAAY, IN WP | 3000 | 17500
SJAAY, IN WP | DERRF, IN WP | 2800 | 17500
DERRF, IN WP | GETCH, MI WP | 2800 | 17500
GETCH, MI WP | GAYLE, MI WP | 2400 | 17500
§ 95.3251 RNAV Route T251 Is Amended by Adding
FORISTELL, MO VORTAC | RIVRS, IL FIX | 2700 | 6000
RIVRS, IL FIX | KAYUU, MO WP | 2700 | 17500
KAYUU, MO WP | MERKR, IA WP | 2500 | 17500
MERKR, IA WP | AGENS, IA FIX | 2500 | 17500
AGENS, IA FIX | PICRA, IA WP | 2700 | 17500
PICRA, IA WP | HAVOS, IA WP | 2800 | 17500
HAVOS, IA WP | WATERLOO, IA VOR/DME | 2800 | 17500
WATERLOO, IA VOR/DME | ZEZDU, IA FIX | 2800 | 17500
ZEZDU, IA FIX | FALAR, MN FIX | 3000 | 17500
FALAR, MN FIX | KOETZ, WI WP | 3100 | 17500
Is Amended to Read in Part
FARMINGTON, MO VORTAC | FORISTELL, MO VORTAC | 3100 | 6000
§ 95.3265 RNAV Route T265 Is Amended to Delete
AHMED, IL FIX | START, IL FIX | 4000 | 8000
* 2500—MOCA
START, IL FIX | BULLZ, IL FIX | 4000 | 8000
* 2500—MOCA
BULLZ, IL FIX | VEENA, WI FIX | 4000 | 8000
* 2600—MOCA
Is Added to Read
JAYBE, WI FIX | GRIFT, IL FIX | 2800 | 17500
GRIFT, IL FIX | START, IL FIX | 2700 | 17500
START, IL FIX | MEITZ, IL FIX | 2700 | 17500
MEITZ, IL FIX | COYAP, IL WP | 2400 | 17500
COYAP, IL WP | MAPPS, IN FIX | 2500 | 17500
MAPPS, IN FIX | KLROY, IN WP | 2400 | 17500
KLROY, IN WP | SMUUV, MI WP | 2600 | 17500
SMUUV, MI WP | GETCH, MI WP | 2500 | 17500
GETCH, MI WP | LADIN, MI FIX | 4000 | 17500
LADIN, MI FIX | CARGA, MI FIX | 3200 | 17500
CARGA, MI FIX | BUDHA, MI WP | 3200 | 17500
BUDHA, MI WP | RONDO, MI FIX | 3200 | 17500
RONDO, MI FIX | PINES, MI FIX | 2700 | 17500
§ 95.3300 RNAV Route T300 Is Amended by Adding
SSENA, NY WP | STANK, NY WP | 4100 | 17500
STANK, NY WP | JONNN, NY FIX | 4600 | 17500
JONNN, NY FIX | UUBER, NY WP | 4500 | 17500
*5300—MCA | UUBER, NY WP, S BND
UUBER, NY WP | OPDIE, NY WP | 5800 | 17500
*6600—MCA | OPDIE, NY WP, S BND
OPDIE, NY WP | GASSY, NY FIX | 7500 | 17500
GASSY, NY FIX | OTOLE, NY FIX | 4900 | 17500
*2800—MCA | OTOLE, NY FIX, N BND
OTOLE, NY FIX | ALBANY, NY VORTAC | 2200 | 17500
Is Amended to Delete
FALMA, RI FIX | MARTHAS VINEYARD, MA VOR/DME | 2000 | 17500
Is Amended to Read in Part
ALBANY, NY VORTAC | CANAN, NY FIX | 3400 | 17500
*3600—MCA | CANAN, NY FIX, SE BND
MOLDS, MA FIX | TOMES, MA FIX | 3500 | 17500
TOMES, MA FIX | COBOL, MA FIX | 3300 | 17500
COBOL, MA FIX | NELIE, CT FIX | 3100 | 17500
WIPOR, CT FIX | YANTC, CT WP | 2300 | 17500
*1900—MOCA
YANTC, CT WP | LAFAY, RI FIX | 2300 | 17500
LAFAY, RI FIX | MINNK, RI FIX | 2000 | 17500
MINNK, RI FIX | NEWBE, RI FIX | 2000 | 17500
*1200—MOCA
NEWBE, RI FIX | DEEPO, MA FIX | 2000 | 17500
§ 95.3348 RNAV Route T348 Is Added to Read
BRAIN, MN WP | GRSIS, MN WP | 3500 | 17500
GRSIS, MN WP | FOOLS, MN WP | 3200 | 17500
FOOLS, MN WP | GABDE, MN FIX | 3100 | 17500
GABDE, MN FIX | KRRTR, IA WP | 3200 | 17500
KRRTR, IA WP | MADISON, WI VORTAC | 3000 | 17500
MADISON, WI VORTAC | LUNGS, WI WP | 2800 | 17500
§ 95.3354 RNAV Route T354 Is Amended by Adding
BRNRD, MN WP | SSKYY, WI WP | 3000 | 17500
SSKYY, WI WP | TONOC, WI FIX | 3000 | 17500
TONOC, WI FIX | KOETZ, WI WP | 3000 | 17500
KOETZ, WI WP | HRMNN, WI WP | 3500 | 17500
HRMNN, WI WP | FOMAG, WI WP | 3000 | 17500
FOMAG, WI WP | MAYSE, WI WP | 3000 | 17500
MAYSE, WI WP | HOMRC, IL WP | 3000 | 17500
HOMRC, IL WP | CPTON, IL WP | 2600 | 17500
CPTON, IL WP | BLLUE, IL FIX | 2700 | 17500
BLLUE, IL FIX | BOSTN, IL WP | 2800 | 17500
BOSTN, IL WP | BIBLE GROVE, IL VORTAC | 2500 | 17500
BIBLE GROVE, IL VORTAC | CUNNINGHAM, KY VOR/DME | 2500 | 17500
Is Amended to Delete
BRNRD, MN WP | SIREN, WI DME | 3500 | 17500
*2700—MOCA
Is Amended to Read in Part
PARK RAPIDS, MN VOR/DME | BRNRD, MN WP | 3300 | 17500
§ 95.3391 RNAV Route T391 Is Added to Read
TUMPS, NY FIX | SYRACUSE, NY VORTAC | 3400 | 17500
SYRACUSE, NY VORTAC | PAGER, NY FIX | 2300 | 17500
PAGER, NY FIX | BRUIN, NY FIX | 2600 | 17500
BRUIN, NY FIX | WATERTOWN, NY VORTAC | 2600 | 17500
WATERTOWN, NY VORTAC | WILRD, NY FIX | 2300 | 17500
WILRD, NY FIX | LETUS, NY FIX | 2300 | 17500
LETUS, NY FIX | SSENA, NY WP | 2200 | 17500
§ 95.3393 RNAV Route T393 Is Added to Read
GAILS, MA FIX | INNDY, MA FIX | 2000 | 17500
INNDY, MA FIX | PROVIDENCE, RI VOR/DME | 2000 | 17500
PROVIDENCE, RI VOR/DME | FOSTY, RI FIX | 2400 | 17500
FOSTY, RI FIX | PUTNM, CT WP | 2500 | 17500
PUTNM, CT WP | GRIPE, MA FIX | 2600 | 17500
GRIPE, MA FIX | GARDNER, MA VOR/DME | 3100 | 17500
GARDNER, MA VOR/DME | KEYNN, NH WP | 3500 | 17500
KEYNN, NH WP | STRUM, NH FIX | 3500 | 17500
STRUM, NH FIX | UNKER, NH FIX | 3800 | 17500
*4200—MCA | UNKER, NH FIX, N BND
UNKER, NH FIX | MCADM, NH FIX | 5000 | 17500
MCADM, NH FIX | LBNON, NH WP | 4100 | 17500
LBNON, NH WP | ZIECH, VT FIX | 4000 | 17500
*4100—MCA | ZIECH, VT FIX, N BND
ZIECH, VT FIX | DAVID, VT FIX | 4600 | 17500
DAVID, VT FIX | MONTPELIER, VT VOR/DME | 4700 | 17500
MONTPELIER, VT VOR/DME | CEVIB, VT FIX | 5200 | 17500
CEVIB, VT FIX | POROE, VT FIX | 5200 | 17500
*5700—MCA | POROE, VT FIX, NW BND
POROE, VT FIX | BURLINGTON, VT VOR/DME | 6300 | 17500
§ 95.3395 RNAV Route T395 Is Added to Read
CONCORD, NH VOR/DME | YECKA, NH FIX | 3300 | 17500
*3700—MCA | YECKA, NH FIX, NE BND
YECKA, NH FIX | GRUMP, NH FIX | 4000 | 17500
*4600—MCA | GRUMP, NH FIX, NE BND
GRUMP, NH FIX | LAROE, NH FIX | 5200 | 17500
LAROE, NH FIX | NOTTY, NH FIX | 5400 | 17500
NOTTY, NH FIX | WYLIE, NH FIX | 5900 | 17500
WYLIE, NH FIX | JOBBY, NH WP | 6300 | 17500
*6200—MCA | JOBBY, NH WP, S BND
JOBBY, NH WP | BRLIN, NH WP | 5800 | 17500
§ 95.4000 HIGH ALTITUDE RNAV Routes
§ 95.4108 RNAV Route Q108 Is Amended to Delete
GADAY, AL WP | HKUNA, FL WP | *18000 | 45000
*GNSS REQUIRED

FROM | TO | MEA
§ 95.6001 VICTOR Routes—U.S
§ 95.6001 VOR Federal Airway V1 Is Amended to Read in Part
KINSTON, NC VORTAC | ZAGGY, NC FIX | #
#UNUSABLE
§ 95.6002 VOR Federal Airway V2 Is Amended to Delete
NODINE, MN VORTAC | WEBYE, WI FIX | 3100
§ 95.6003 VOR Federal Airway V3 Is Amended to Read in Part
PEASE, NH VOR/DME | YUKES, NH FIX | *3500
*2400—MOCA
YUKES, NH FIX | *PARSO, ME FIX | **3500
*5000—MRA
*7000—MCA
| PARSO, ME FIX, N BND
**2800—MOCA
PARSO, ME FIX | LABEL, ME FIX
| S BND | 3500
| N BND | 7000
LABEL, ME FIX | AUGUSTA, ME VOR/DME | *7000
*3600—MOCA
*3600—GNSS MEA
§ 95.6004 VOR Federal Airway V4 Is Amended to Read in Part
REACH, WV FIX | *ELKINS, WV VORTAC | 4400
*4900—MCA | ELKINS, WV VORTAC, E BND
§ 95.6024 VOR Federal Airway V24 Is Amended to Delete
ROCHESTER, MN VOR/DME | LONE ROCK, WI VOR/DME | 3000
LONE ROCK, WI VOR/DME | GLARS, WI FIX | *3400
*2800—MOCA
GLARS, WI FIX | JANESVILLE, WI VOR/DME | *2800
*2300—MOCA
§ 95.6039 VOR Federal Airway V39 Is Amended to Read in Part
CONCORD, NH VOR/DME | *NEETS, NH FIX | 3500
*4500—MCA | NEETS, NH FIX, NE BND
NEETS, NH FIX | *LABEL, ME FIX | **6000
*7000—MCA | LABEL, ME FIX, NE BND
**3500—MOCA
**3500—GNSS MEA
LABEL, ME FIX | AUGUSTA, ME VOR/DME | *7000
*3600—MOCA
*3600—GNSS MEA
§ 95.6053 VOR Federal Airway V53 Is Amended to Read in Part
WILLS, SC FIX | *SPARTANBURG, SC VORTAC | 2700
*5200—MCA | SPARTANBURG, SC VORTAC, NW BND
SPARTANBURG, SC VORTAC | CARTT, SC FIX
| NW BND | 6200
| SE BND | 3000
CARTT, SC FIX | SUGARLOAF MOUNTAIN, NC VORTAC | 6200
§ 95.6054 VOR Federal Airway V54 Is Amended to Read in Part
RESTS, SC FIX | CLEVA, SC FIX | *7000
*5100—MOCA
*5100—GNSS MEA
CLEVA, SC FIX | *SPARTANBURG, SC VORTAC | **6000
*5200—MCA | SPARTANBURG, SC VORTAC, W BND
**3300—GNSS MEA
SPARTANBURG, SC VORTAC | CHARLOTTE, NC VOR/DME | *4000
*2600—MOCA
§ 95.6055 VOR Federal Airway V55 Is Amended to Delete
PULLMAN, MI VOR/DME | MUSKEGON, MI VORTAC | 2500
MUSKEGON, MI VORTAC | WHALL, MI FIX | *2400
*2400—MOCA
#MUSKEGON R-328 TO YULNU UNUSABLE EXCEPT AIRCRAFT EQUIPPED WITH SUITABLE RNAV SYSTEM WITH GPS
WHALL, MI FIX | NEROE, WI FIX | *5000
*2400—MOCA
NEROE, WI FIX | GREEN BAY, WI VORTAC | #3000
#GREENBAY R-115 TO YULNU UNUSABLE EXCEPT AIRCRAFT EQUIPPED WITH SUITABLE RNAV SYSTEM WITH GPS
GREEN BAY, WI | VORTAC BIPID, WI FIX | 3000
§ 95.6069 VOR Federal Airway V69 Is Amended to Read in Part
PONTIAC, IL VOR/DME | JOLIET, IL VOR/DME | *3000
*2300—MOCA
§ 95.6077 VOR Federal Airway V77 Is Amended to Delete
WATERLOO, IA VOR/DME | WAUKON, IA VOR/DME | *3000
*2800—MOCA
§ 95.6097 VOR Federal Airway V97 Is Amended to Delete
KRENA, IL FIX | JANESVILLE, WI VOR/DME | 2900
JANESVILLE, WI VOR/DME | THEBO, WI FIX | 3000
THEBO, WI FIX | LONE ROCK, WI VOR/DME | *3400
*2800—MOCA
LONE ROCK, WI VOR/DME | WEBYE, WI FIX | 3000
WEBYE, WI FIX | NODINE, MN VORTAC | 3100
§ 95.6171 VOR Federal Airway V171 Is Amended to Delete
ROCKFORD, IL VOR/DME | GLARS, WI FIX | 2900
GLARS, WI FIX | LONE ROCK, WI VOR/DME | *3400
*2800—MOCA
LONE ROCK, WI VOR/DME | WEBYE, WI FIX | 3000
WEBYE, WI FIX | NODINE, MN VORTAC | 3100
§ 95.6215 VOR Federal Airway V215 Is Amended to Delete
JYBEE, MI FIX | SALES, MI FIX | *3500
*1700—MOCA
SALES, MI FIX | MUSKEGON, MI VORTAC | *3000
*2300—MOCA
MUSKEGON, MI VORTAC | WHITE CLOUD, MI VOR/DME | 2800
WHITE CLOUD, MI VOR/DME | GAYLORD, MI VOR/DME | 4000
§ 95.6218 VOR Federal Airway V218 Is Amended to Delete
GOPHER, MN VORTAC | DLANY, MN WP | *4800
*3200—MOCA
DLANY, MN WP | WAUKON, IA VOR/DME | 3000
§ 95.6225 VOR Federal Airway V225 Is Amended to Read in Part
MARCI, FL FIX | LEE COUNTY, FL VORTAC
| N BND | 2100
| S BND | 4000
§ 95.6231 VOR Federal Airway V231 Is Amended to Read in Part
MISSOULA, MT VOR/DME | ARLEE, MT FIX | 9700
ARLEE, MT FIX | *JESSY, MT FIX | **11000
*13000—MCA | JESSY, MT FIX, N BND
**9400—MOCA
§ 95.6244 VOR Federal Airway V244 Is Amended to Read in Part
LAMAR, CO VOR/DME | *COFFE, KS FIX | **9000
*9000—MRA
*9000—MCA | COFFE, KS FIX, SW BND
*9700—MCA | COFFE, KS FIX, NE BND
**5400—MOCA
COFFE, KS FIX | *RANSO, KS FIX | **10000
*10000—MRA
**4700—MOCA
§ 95.6246 VOR Federal Airway V246 Is Amended to Delete
DUBUQUE, IA VORTAC | WAUKON, IA VOR/DME | 3000
WAUKON, IA VOR/DME | NODINE, MN VORTAC | 3000
NODINE, MN VORTAC | MILTO, WI FIX | 3000
§ 95.6247 VOR Federal Airway V247 Is Amended to Read in Part
HIPSHER, WY VOR/DME | *WAPAP, WY FIX | **9000
*9000—MCA | WAPAP, WY FIX, SE BND
**8300—MOCA
**8000—GNSS MEA
WAPAP, WY FIX | CRAZY WOMAN, WY VOR/DME | 8000
§ 95.6257 VOR Federal Airway V257 Is Amended to Read in Part
DRAKE, AZ VORTAC | *KACEE, AZ FIX | **10000
*11000—MCA | KACEE, AZ FIX, W BND
*11000—MCA | KACEE, AZ FIX, E BND
**8600—MOCA
**9000—GNSS MEA
KACEE, AZ FIX | *BISOP, AZ FIX | **10000
*11000—MRA
**8400—MOCA
**9000—GNSS MEA
§ 95.6262 VOR Federal Airway V262 Is Amended to Read in Part
MOTIF, IL FIX | JOLIET, IL VOR/DME | *3000
*2300—MOCA
§ 95.6271 VOR Federal Airway V271 Is Amended to Delete
MUSKEGON, MI VORTAC | WELKO, MI FIX | *3000
*2500—MOCA
WELKO, MI FIX | MANISTEE, MI VOR/DME | *4000
*2400—MOCA
§ 95.6333 VOR Federal Airway V333 Is Amended to Read in Part
JELLO, TN FIX | *WNSOR, KY FIX | **5100
*5100—MCA | WNSOR, KY FIX, S BND
*5100—MCA | WNSOR, KY FIX, N BND
**4000—MOCA
**4000—GNSS MEA
WNSOR, KY FIX | DOLLY, KY FIX | *5100
*4000—MOCA
*4000—GNSS MEA
§ 95.6398 VOR Federal Airway V398 Is Amended to Delete
ROCHESTER, MN VOR/DME | WAUKON, IA VOR/DME | 3000
WAUKON, IA VOR/DME | LONE ROCK, WI VOR/DME | 3000
§ 95.6411 VOR Federal Airway V411 Is Amended to Delete
LONE ROCK, WI VOR/DME | WAUKON, IA VOR/DME | 3000
WAUKON, IA VOR/DME | ROCHESTER, MN VOR/DME | 3000
ROCHESTER, MN VOR/DME | FARMINGTON, MN VORTAC | 3000
§ 95.6450 VOR Federal Airway V450 Is Amended to Delete
ESCANABA, MI VOR/DME | MENOMINEE, MI VOR/DME | 2500
MENOMINEE, MI VOR/DME | GREEN BAY, WI VORTAC | 2600
GREEN BAY, WI VORTAC | MUSKEGON, MI VORTAC | 3000
MUSKEGON, MI VORTAC | GIBER, MI FIX | *3000
*2400—MOCA
GIBER, MI FIX | LUGGS, MI FIX | *4000
*2400—MOCA
LUGGS, MI FIX | FLINT, MI VORTAC | *3000
*2400—MOCA
§ 95.6472 VOR Federal Airway V472 Is Amended to Read in Part
ZAGGY, NC FIX | KINSTON, NC VORTAC | #
#UNUSABLE
§ 95.6539 VOR Federal Airway V539 Is Amended to Read in Part
GOODY, FL FIX | LEE COUNTY, FL VORTAC
| N BND | 2100
| S BND | 4000
§ 95.6586 VOR Federal Airway V586 Is Amended to Read in Part
PONTIAC, IL VOR/DME | JOLIET, IL VOR/DME | *3000
*2300—MOCA

FROM | TO | MEA | MAA
§ 95.7001 Jet Routes
§ 95.7002 Jet Route J2 Is Amended by Adding
CRESTVIEW, FL VORTAC | DEFUN, FL FIX | 18000 | 45000
Is Amended to Delete
CRESTVIEW, FL VORTAC | SEMINOLE, FL VORTAC | 18000 | 45000
SEMINOLE, FL VORTAC | TAYLOR, FL VORTAC | 18000 | 45000
§ 95.7037 Jet Route J37 Is Amended to Delete
ALBANY, NY VORTAC | MASSENA, NY VORTAC | 23000 | 45000
§ 95.7039 Jet Route J39 Is Amended to Delete
CRESTVIEW, FL VORTAC | MONTGOMERY, AL VORTAC | 18000 | 45000
§ 95.7042 Jet Route J42 Is Amended to Read in Part
BECKLEY, WV VOR/DME | MONTEBELLO, VA VOR/DME | #18000 | 41000
#BECKLEY R-091 UNUSABLE
§ 95.7055 Jet Route J55 Is Amended to Delete
CHARLESTON, SC VORTAC | FLORENCE, SC VORTAC | 18000 | 45000
FLORENCE, SC VORTAC | TUBAS, NC FIX | 18000 | 45000
§ 95.7061 Jet Route J61 Is Amended to Delete
EDDYS, NC FIX | FORTS, VA FIX | 31000 | 45000
FORTS, VA FIX | NOTTINGHAM, MD VORTAC | 18000 | 45000
NOTTINGHAM, MD VORTAC | WESTMINSTER, MD VORTAC | 18000 | 45000
§ 95.7062 Jet Route J62 Is Amended to Delete
ROBBINSVILLE, NJ VORTAC | NANTUCKET, MA VOR/DME | 18000 | 45000
§ 95.7109 Jet Route J109 Is Amended to Delete
WILMINGTON, NC VORTAC | FLAT ROCK, VA VORTAC | 18000 | 45000
FLAT ROCK, VA VORTAC | LINDEN, VA VORTAC | 18000 | 45000
§ 95.7121 Jet Route J121 Is Amended to Delete
SEA ISLE, NJ VORTAC | HAMPTON, NY VORTAC | 18000 | 45000
HAMPTON, NY VORTAC | SANDY POINT, RI VOR/DME | 18000 | 45000
SANDY POINT, RI VOR/DME | KENNEBUNK, ME VOR/DME | 18000 | 45000
Is Amended by Adding
SEA ISLE, NJ VORTAC | BRIGS, NJ FIX | 18000 | 45000
§ 95.7213 Jet Route J213 Is Amended to Read in Part
BECKLEY, WV VOR/DME | ARMEL, VA VOR/DME | #18000 | 45000
#BECKLEY R-072 UNUSABLE
§ 95.7230 Jet Route J230 Is Amended to Delete
ROBBINSVILLE, NJ VORTAC | LARRI, PA FIX | 18000 | 45000
LARRI, PA FIX | VINSE, PA FIX | 26000 | 45000
VINSE, PA FIX | BELLAIRE, OH VOR/DME | 18000 | 45000
§ 95.7570 Jet Route J570 Is Amended to Delete
ALBANY, NY VORTAC | U.S. CANADIAN BORDER | 18000 | 45000

AIRWAY SEGMENT CHANGEOVER POINTS: FROM | AIRWAY SEGMENT CHANGEOVER POINTS: TO | CHANGEOVER POINTS: DISTANCE | CHANGEOVER POINTS: FROM
§ 95.8003 VOR Federal Airway Changeover Points
V271 Is Amended to Delete Changeover Point
MUSKEGON, MI VORTAC | MANISTEE, MI VOR/DME | 37 | MUSKEGON
§ 95.8005 Jet Routes Changeover Points
J42 Is Amended to Add Changeover Point
BECKLEY, WV VOR/DME | MONTEBELLO, VA VOR/DME | 56 | BECKLEY
J230 Is Amended to Delete Changeover Point
LARRI, PA PA FIX | BELLAIRE, OH VOR/DME | #163 | LARRI

[FR Doc. 2020-24033 Filed 10-28-20; 8:45 am]

BILLING CODE 4910-13-P